DEPARTMENT OF THE INTERIOR

Fish and Wildlife Service

[FWS-R8-ES-2024-N012; FXES11140800000-245-FF08EKLA00]

Incidental Take of Endangered Species; PacifiCorp Klamath Hydroelectric Project Interim Operations Habitat Conservation Plan in OR and CA; Permit Transfer

AGENCY: Fish and Wildlife Service, Interior.

ACTION: Notice of permit transfer.

SUMMARY: In 2014, under the Endangered Species Act, we, the U.S. Fish and Wildlife Service (Service), issued an incidental take permit (ITP) authorizing take of two federally endangered fish species incidental to otherwise lawful activities associated with implementation of the PacifiCorp Klamath Hydroelectric Project Interim Operations Habitat Conservation Plan. Subsequently, the Klamath River Renewal Corporation and the States of Oregon and California acquired ownership of lands covered by the ITP. We now announce that the Service has carried out a partial transfer of the ITP to these entities.

FOR FURTHER INFORMATION CONTACT: Rachel Henry, Regional Habitat Conservation Planning Coordinator, by email at rachel_henry@fws.gov or by telephone at 805-448-7484. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On January 28, 2013, we, the U.S. Fish and Wildlife Service, published a Federal Register notice announcing the availability for public comment of a draft environmental assessment (EA) under the National Environmental Policy Act (NEPA) for the interim operations of the Klamath Hydroelectric Project on the Klamath River, in Klamath County, Oregon, and Siskiyou County, California (78 FR 5830; January 28, 2013).

The EA was in association with an incidental take permit (ITP) application we received from PacifiCorp under the Endangered Species Act of 1973, as amended (ESA; 16 U.S.C. 1531 et seq.), for take of two fish species, the Lost River sucker (Deltistes luxatus) and the shortnose sucker (Chasmistes brevirostris), both of which are federally listed as endangered. After considering comments, on February 20, 2014, we issued the ITP to PacifiCorp, authorizing take of the species incidental to otherwise lawful activities associated with implementation of the PacifiCorp Klamath Hydroelectric Project Interim Operations Habitat Conservation Plan (HCP).

Subsequently, the Klamath River Renewal Corporation (KRRC) and the States of Oregon and California acquired ownership of lands covered by the ITP for the HCP. The KRRC and the States of Oregon and California expressed the desire to continue implementing pertinent provisions of the HCP on these lands and to continue to be covered by an ITP.

Partial transfer of an ITP is expressly authorized at 50 CFR 13.25. On November 30, 2023, KRRC and the States of Oregon and California submitted to the Service an application for an ITP, along with the assignment and assumption agreement to fulfill the requirements of processing the partial transfer of the HCP to KRRC and the States of Oregon and California.

On December 19, 2023, the Service, the KRRC, the States of Oregon and California, and PacifiCorp entered into an assignment and assumption agreement to facilitate the transfer of all relevant obligations to the KRRC and the States of Oregon and California and the partial transfer of permit TE52096A from PacifiCorp to KRRC and the States of Oregon and California, pursuant to 50 CFR 13.25.

Notice is hereby given that, on December 19, 2023, as authorized by the provisions of the ESA, the Service issued an ITP (PER 6149438) to KRRC and the States of Oregon and California subject to certain conditions set forth therein. The permit was granted only after the Service determined that it was applied for in good faith, that granting the permit would not be to the disadvantage of the endangered species, and that it will be consistent with the purposes and policies set forth in the ESA.

Authority

The Service provides this notice under section 10(c) of the Endangered Species Act (16 U.S.C. 1531 et seq.) and its implementing regulations (50 CFR 17.32) and the National Environmental Policy Act (42 U.S.C. 4321 et seq.) and its implementing regulations (40 CFR 1500-1508 and 43 CFR 46).

Jennie Land,
Field Supervisor, Klamath Falls Fish and Wildlife Office, Klamath Falls, Oregon.

[FR Doc. 2024-05703 Filed 3-15-24; 8:45 am]

BILLING CODE 4333-15-P